DEPARTMENT OF HEALTH AND HUMAN SERVICES

Administration for Children and Families

[CFDA Number 93.623]

Announcement of the Award of a Single-Source Grant to Compass Family and Community Services in Youngstown, OH

AGENCY: Family and Youth Services Bureau (FYSB), ACYF, ACF, HHS.

ACTION: Notice of the award of a single-source grant to Compass Family and Community Services in Youngstown, OH.

SUMMARY: The Administration on Children, Youth and Families (ACYF), Family and Youth Services Bureau (FYSB), Division of Adolescent Development and Support (DADS), announces the award of a single-source grant in the amount of $144,000 to Compass Family and Community Services of Youngstown, OH, under the Basic Center Program.

DATES: Awarded funds will support activities from 04/01/2015 through03/31/2016.

SUPPLEMENTARY INFORMATION: This single-source award will allow Compass Family and Community Services to operate a short-term emergency shelter for runaway and homeless youth for males and females ages 11 to18. The program's goals are to alleviate the problems of runaway and homeless youth by reuniting families, whenever possible, or finding alternative living arrangements; strengthening family relationships; building positive relationships with supportive adults; and helping youth decide on constructive courses of action. Compass Family and Community Services is a non-profit organization.

FOR FURTHER INFORMATION CONTACT: Christopher Holloway, Central Office Program Manager, Runaway and Homeless Youth Program, Division of Adolescent Development and Support, Family and Youth Services Bureau, 1250 Maryland Avenue SW., Suite 800, Washington, DC 20024; Telephone: 202-205-9560; Email: Christopher.Holloway@acf.hhs.gov.

Statutory Authority: The Basic Center Program (BCP) grants are authorized by section 311(a)(1) of the Runaway and Homeless Youth Act, 42 U.S.C. 5711(a)(1), most recently amended by Public Law 110-378 on October 8, 2008.

Mary M. Wayland,
Senior Grants Policy Specialist, Division of Grants Policy, Office of Administration.

[FR Doc. 2015-06662 Filed 3-23-15; 8:45 am]

BILLING CODE 4182-04-P